ENVIRONMENTAL PROTECTION AGENCY

[EPA-HQ-OAR-2004-0015 and EPA-HQ-OAR-2004-0016; FRL-9506-5]

Agency Information Collection Activities; Proposed Collections; Comment Request; State Operating Permit Program (Renewal) and Federal Operating Permit Program (Renewal)

AGENCY: Environmental Protection Agency (EPA).

ACTION: Notice.

SUMMARY: In compliance with the Paperwork Reduction Act (PRA) (44 U.S.C. 3501 et seq.), this document announces that the EPA is planning to submit a request to renew two existing approved Information Collection Requests (ICR) to the Office of Management and Budget (OMB). The two ICRs are scheduled to expire on April 30, 2012. Before submitting the two ICRs to OMB for review and approval, the EPA is soliciting comments on specific aspects of the proposed information collections as described below.

DATES: Comments must be submitted on or before February 13, 2012.

ADDRESSES: Submit your comments, identified by Docket ID No. EPA-HQ-OAR-2004-0015 (for the part 70 state program) or Docket ID No. EPA-HQ-OAR-2004-0016 (for the part 71 Federal program), by one of the following methods:

• http://www.regulations.gov: Follow the on-line instructions for submitting comments.

• Email: a-and-r-docket@epa.gov.

• Fax: (202) 566-9744.

• Mail: U.S. Environmental Protection Agency, Air and Radiation Docket and Information Center, Mailcode: 2822T, 1200 Pennsylvania Ave. NW., Washington, DC 20460. Attention: Docket ID No. EPA-HQ-OAR-2004-0015 (for Part 70) or Docket ID No. EPA-HQ-OAR-2004-0016 (for Part 71). Please include a total of two copies.

• Hand Delivery: EPA Docket Center, Public Reading Room, EPA West, Room 3334, 1301 Constitution Ave. NW., Washington, DC 20460. Such deliveries are only accepted during the Docket's normal hours of operation, and special arrangements should be made for deliveries of boxed information.

Instructions: Direct your comments to Docket ID No. EPA-HQ-OAR-2004-0015 for the ICR renewal for the part 70 state permitting program or EPA-HQ-OAR-2004-0016 for the ICR renewal for the part 71 Federal (EPA) permitting program. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption and be free of any defects or viruses. For additional information about the EPA's public docket, visit the EPA Docket Center homepage at http://www.epa.gov/epahome/dockets.htm.

FOR FURTHER INFORMATION CONTACT: Mr. Jeff Herring, Air Quality Policy Division, Office of Air Quality Planning and Standards (C504-05), Environmental Protection Agency, Research Triangle Park, North Carolina 27711; telephone number: (919) 541-3195; fax number: (919) 541-5509; email address: herring.jeff@epa.gov.

SUPPLEMENTARY INFORMATION:

How can I access the docket and/or submit comments?

The EPA has established a public docket for the Part 70 ICR renewal under Docket ID No. EPA-HQ-OAR-2004-0015 and a public docket for the Part 71 ICR renewal under Docket ID No. EPA-HQ-OAR-2004-0016, which are available for online viewing at http://www.regulations.gov, or in person viewing at the Air and Radiation Docket in the EPA Docket Center (EPA/DC), EPA West, Room 3334, 1301 Constitution Ave., NW., Washington, DC The EPA/DC Public Reading Room is open from 8:30 a.m. to 4:30 p.m., Monday through Friday, excluding legal holidays. The telephone number for the Public Reading Room is (202) 566-1744.

Use http://www.regulations.gov to obtain a copy of the draft collection of information, submit or view public comments, access the index listing of the contents of the docket and access those documents in the public docket that are available electronically. Once in the system, select “search,” then key in the docket ID number identified in this document.

What information is the EPA particularly interested in?

Pursuant to section 3506(c)(2)(A) of the PRA, the EPA specifically solicits comments and information to enable it to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility and clarity of the information to be collected; and

(iv) Minimize the burden of the collection of information on those who are to respond, including through the use of appropriate automated electronic, mechanical or other technological collection techniques or other forms of information technology, e.g., permitting electronic submission of responses. In particular, the EPA is requesting comments from very small businesses (those that employ less than 25) on examples of specific additional efforts that the EPA could make to reduce the paperwork burden for very small businesses affected by this collection.

What should I consider when I prepare my comments for the EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by the EPA, be sure to identify the docket ID number assigned to this action in the subject line on the first page of your response. You may also provide the name, date, and Federal Register citation.

What information collection activity does this apply to?

Affected entities: Entities potentially affected by this action are those which must apply for and obtain an operating permit under title V of the Clean Air Act (Act). These, in general, include sources which are defined as “major” under any title of the Act.

Title: Part 70 State Operating Permit Program (Renewal) and Part 71 Federal Operating Permit Program (Renewal).

ICR number: For the Part 70 regulations, EPA ICR No. 1587.12 and OMB Control No. 2060-0243. For the Part 71 regulations, EPA ICR No. 1713.10 and OMB Control No. 2060-0336.

ICR status: The two ICRs are both scheduled to expire on April 30, 2012.

Abstract: Title V of the Act requires states to develop and implement a program for issuing operating permits to all sources that fall under any Act definition of “major” and certain other non-major sources that are subject to federal air quality regulations. The Act further requires the EPA to develop regulations that establish the minimum requirements for those state operating permits programs, to oversee implementation of the state programs, and to operate a federal operating permits program in areas not subject to an approved state program. An agency may not conduct or sponsor, and a person is not required to respond to, a collection of information request unless it displays a currently valid OMB control number. The OMB control numbers for the EPA's regulations in 40 CFR are listed in 40 CFR part 9 and 48 CFR chapter 15. The EPA regulations setting forth requirements for the state operating permit program are at 40 CFR part 70 and the EPA regulations setting forth the requirements for the federal (EPA) operating permit program are at 40 CFR part 71. The part 70 program is designed to be implemented primarily by state and local permitting authorities in all areas where they have jurisdiction. The part 71 program is designed to be implemented primarily by the EPA in all areas where state and local agencies do not have jurisdiction, such as Indian Country and offshore beyond states' seaward boundaries.

In order to receive an operating permit for a major or other source subject to either of the permitting programs, the applicant must conduct the necessary research, perform the appropriate analyses and prepare the permit application with documentation to demonstrate that their project meets all applicable statutory and regulatory requirements. Specific activities and requirements are listed and described in the Supporting Statements for the two ICRs.

State and local agencies under part 70 and the EPA (or a delegate agency) under part 71 review permit applications, provide for public review of proposed permits, issue permits based on consideration of all technical factors and public input, and review information submittals required of sources during the term of the permit. Also, under part 70, the EPA reviews certain actions of the state and local agencies and provides oversight of the programs to ensure that they are being adequately implemented and enforced. Under part 71, the EPA reviews certain actions and performs oversight for any delegate agency, consistent with the terms of a delegation agreement. Consequently, information prepared and submitted by sources is essential for sources to receive permits, and for Federal, state, and local permitting agencies to adequately review the permit applications and thereby properly administer and manage the program.

Since the previous renewal of this ICR, the EPA has promulgated two changes to the part 70 and 71 regulations: the Flexible Air Permits rule and the Greenhouse Gas (GHG) Tailoring rule. The first rule provides a mechanism for sources to establish provisions in their operating permits that result in fewer permit revisions necessary during the term of the permit. The second rule establishes levels where GHG emissions trigger permitting requirements. The information collection requirements for these regulatory revisions were approved by OMB after the approval of the 2007 ICR renewal and those approved changes are included and updated in these ICR renewals. Also, the previous part 71 ICR renewal identifed the EPA as the sole permitting authority, while this part 71 renewal identifies the EPA and one delegate agency, the Navajo Nation, as permitting authorities (the EPA continues to serve as a permitting authority in all areas, while the delegate agency serves as a permitting authority in a limited portion of Indian country).

Information that is collected is handled according to the EPA's policies set forth in title 40, chapter 1, part 2, subpart B—Confidentiality of Business Information (see 40 CFR part 2). See also section 114(c) of the Act.

Burden Statement: Burden means the total time, effort or financial resources expended by persons to generate, maintain, retain or disclose or provide information to or for a federal agency. This includes the time needed to review instructions; develop, acquire, install and utilize technology and systems for the purposes of collecting, validating and verifying information, processing and maintaining information and disclosing and providing information; adjust the existing ways to comply with any previously applicable instructions and requirements; train personnel to be able to respond to a collection of information; search data sources; complete and review the collection of information; and transmit or otherwise disclose the information.

The annual public reporting and recordkeeping burden for the collection of information under parts 70 and part 71 is broken down as follows:

Type of permit action | Part 70 | Part 71
Permitting Authority:
Number of Sources | 15,940 | 174
Burden Hours per Response:
Sources | 250 | 215
Permitting Authority | 84 | 94
Total Annual Burden Hours:
Sources | 3,977,118 | 37,413
Permitting Authority | 1,334,766 | 1,318 ᵃ
Any minor discrepencies are due to rounding.
ᵃ Only delegate agency burden is shown for part 71.

Respondents/Affected Entities: Industrial plants (sources); state, local, and tribal permitting authorities.

Estimated Number of Respondents: For part 70, there are 15,940 sources and 112 state and local permitting authorities. For part 71, there are 174 industry sources and 1 tribal delegate permitting authority (the EPA serves as a permitting authority but is not a respondent).

Estimated Total Annual Burden: For part 70, the total annual burden for sources and state and local permitting authorities is 5,311,884 hours and the total annual cost is $226,736,622. For part 71, the total annual burden for sources and the one delegate agency (tribal) is 38,731 hours and the total annual cost is $1,865,183.

Are there changes in the estimates from the last approval?

Since the last renewal of the part 70 ICR (in 2007), there is a decrease of 214 thousand hours (or about a 4 percent decrease) of annual respondent burden. This change is primarily due to an updated estimate of the number of permits expected compared to the last ICR renewal. To a lesser extent, this decrease is due to reduced permit renewal activity related to implementation of the Flexible Permits rule. Although the GHG Tailoring rule increased the number of source respondents by 552, the increase in burden was more than offset by the decrease in burden from the updated estimate of the number of permits and the decreased burden from the implementation of the Flexible Air Permits rule. Also, the annual per respondent burden has changed very little since the last part 70 ICR renewal (248 hours previously compared to the new estimate of 250 hours or about a 1 percent increase).

Since the last renewal of the part 71 ICR (in 2007), there is an increase of 10 thousand hours of total annual respondent burden (about a 36 percent increase). This is primarily due to an updated estimate of the number of permits expected (123 permits in the prior renewal versus 174 permits in this renewal or a 42 percent increase), which is due to increased energy development (oil and gas exploration and alternative energy development) in offshore areas under the EPA jurisdiction. In the current part 71 renewal, the Flexible Air Permits rule and the GHG Tailoring rule result in nearly offseting decreases and increases in burden. Also, even though the total annual burden has increased compared to the prior ICR renewal, the annual per source burden has decreased by about 3 percent.

What is the next step in the process for this ICR?

The EPA will consider the comments received and amend the ICR as appropriate. The final ICR package will then be submitted to OMB for review and approval pursuant to 5 CFR 1320.12. At that time, the EPA will issue another Federal Register notice pursuant to 5 CFR 1320.5(a)(1)(iv) to announce the submission of the ICRs to OMB and the opportunity to submit additional comments to OMB. If you have any questions about this ICR or the approval process, please contact the technical person listed under FOR FURTHER INFORMATION CONTACT.

Dated: December 8, 2011.
Mary E. Henigin,
Acting Office Director, Office of Air Quality Planning and Standards.

[FR Doc. 2011-32062 Filed 12-13-11; 8:45 am]

BILLING CODE 6560-50-P